DEPARTMENT OF HEALTH AND HUMAN SERVICES

National Institutes of Health

Center for Scientific Review; Amended Notice of Meeting

Notice is hereby given of a change in the meeting of the Center for Scientific Review Special Emphasis Panel, October 14, 2004, 8:30 AM to October 15, 2004, 6 pm, Hilton Crystal City, 2399 Jefferson Davis Highway, Crystal City, VA, 22202 which was published in the Federal Register on September 9, 2004, 69 FR 54694-54696.

The meeting time has been changed to 8 AM on October 14, 2004, to 6 PM on October 15, 2004. The meeting date and location remain the same. The meeting is closed to the public.

Dated: September 22, 2004.
LaVerne Y. Stringfield,
Director, Office of Federal Advisory Committee Policy.

[FR Doc. 04-21714 Filed 9-27-04; 8:45 am]

BILLING CODE 4140-01-M